DEPARTMENT OF TRANSPORTATION

Federal Aviation Administration (FAA)

Notice of Opportunity for Public Comment on Surplus Property Release at George M. Bryan Field Airport, Starkville, Mississippi

AGENCY: Federal Aviation Administration (FAA), DOT.

ACTION: Notice of intent to rule on land release request.

SUMMARY: Under the provisions of Title 49, U.S.C. Section 47135(c), notice is being given that the FAA is considering a request from the City of Starkville to waive the requirement that a 0.77 acre parcel of surplus property, located at the George M. Bryan Field Airport, be used for aeronautical purposes.

DATES: Comments must be received on or before October 18, 2002.

ADDRESSES: Comments on this notice may be mailed or delivered in triplicate to the FAA at the following address: Jackson Airports District Office, 100 West Cross Street, Suite B, Jackson, MS 39208-2307.

In addition, one copy of any comments submitted to the FAA must be mailed or delivered to the The Honorable Mack D. Rutledge, Mayor of Starkville, Mississippi at the following address: City Hall, 101 Lampkin Street, Starkville, MS 38902-0310.

FOR FURTHER INFORMATION CONTACT: David Shumate, Program Manager, Jackson Airports District Office, 100 West Cross Street, Suite B, Jackson, MS 39208-2307, (601) 664-9882. The land release request may be reviewed in person at this same location.

SUPPLEMENTARY INFORMATION: The FAA is reviewing a request by City of Starkville, MS to release 0.77 acres of surplus property at the George M. Bryan Field Airport. The City of Starkville will acquire the property for fair market value and construct a public-use road on it. The property is located on the West side of the airport.

Any person may inspect the request in person at the FAA office listed above under FOR FURTHER INFORMATION CONTACT.

In addition, any person may, upon request, inspect the request, notice and other documents germane to the request in person at the City of Starkville, Mississippi.

Issued in Jackson, Mississippi on September 10, 2002.
Wayne Atkinson,
Manager, Jackson Airports District Office, Southern Region.

[FR Doc. 02-23710 Filed 9-17-02; 8:45 am]

BILLING CODE 4910-13-M